FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than July 11, 2025.

A. Federal Reserve Bank of Cleveland (Jenni M. Frazer, Vice President) 1455 East Sixth Street, Cleveland, Ohio 44101-2566. Comments can also be sent electronically to Comments.applications@clev.frb.org:

1. Arthur Everett Walker Jr., Arthur Everett Walker III, both of Mount Sterling, Kentucky; Bryce Hamilton Walker, Branden Walker Quinn, both of Lexington, Kentucky; Amy Walker Duzyk, Darren Joseph Duzyk, both of Kiawah Island, South Carolina; Edward Daniel Duzyk, Dennis Paul Duzyk, and the David M. Duzyk 2012 Family Trust U/A, Elizabeth M Duzyk, as trustee, all of Lexington, Kentucky; to join the Walker-Duzyk Family Control Group, a group acting in concert, to retain voting shares of Traditional Bancorporation Inc., and thereby indirectly retain voting shares of Traditional Bank Inc., both of Mount Sterling, Kentucky.

B. Federal Reserve Bank of St. Louis (Holly A. Rieser, Senior Manager) P.O. Box 442, St. Louis, Missouri 63166-2034. Comments can also be sent electronically to Comments.applications@stls.frb.org:

1. The Leslie O. Wilt Revocable Living Trust Indenture dated the 29th day of May, 2014, Leslie Wilt, as trustee, the Kelly D. Wilt Revocable Living Trust Indenture dated the 29th day of May, 2014, Kelly Wilt, as trustee, and Craig Wilt, all of Shelbina, Missouri, and William McGee and Kelsey McGee, both of Madison, Missouri; to join the O'Laughlin Family Control Group, a group acting in concert, to retain voting shares of Community State Bancshares, Inc., and thereby indirectly retain voting shares of Community State Bank, both of Shelbina, Missouri.

2. The Frank & Dianna Montoya Trust dated December 13, 1996, Frank Montoya and Dianna Montoya as trustees, all of Albuquerque, New Mexico; the Amy R. Thomas Living Trust dated April 19, 2007, Amy Thomas and Mark Thomas as trustees, all of Macon, Missouri; and Brooke Foster, Macon, Missouri; to join the Ramsey Family Control Group, a group acting in concert, to retain voting shares of Community State Bancshares, Inc., and thereby indirectly retain voting shares of Community State Bank, both of Shelbina, Missouri.

Board of Governors of the Federal Reserve System.
Michele Taylor Fennell,
Associate Secretary of the Board.

[FR Doc. 2025-11818 Filed 6-25-25; 8:45 am]

BILLING CODE P